DEPARTMENT OF THE INTERIOR

Bureau of Indian Affairs

Land Acquisitions; Elk Valley Rancheria of California

AGENCY: Bureau of Indian Affairs, Interior.

ACTION: Notice of Final Agency Determination to take land into trust under 25 CFR Part 151.

SUMMARY: The Assistant Secretary—Indian Affairs made a final agency determination to acquire approximately 5.10 acres, of land into trust for the Elk Valley Rancheria of California on June 3, 2003. This notice is published in the exercise of authority delegated by the Secretary of the Interior to the Assistant Secretary—Indian Affairs by 209 Departmental Manual 8.1.

SUPPLEMENTARY INFORMATION: This notice is published to comply with the requirement of 25 CFR part 151.12(b) that notice be given to the public of the Secretary's decision to acquire land in trust at least 30 days prior to signatory acceptance of the land into trust. The purpose of the 30-day waiting period in 25 CFR 151.12(b) is to afford interested parties the opportunity to seek judicial review of final administrative decisions to take land in trust for Indian tribes and individual Indians before transfer of title to the property occurs. On June 3, 2003, the Assistant Secretary—Indian Affairs decided to accept approximately 5.10 acres of land into trust for the Elk Valley Rancheria of California under the authority of the Indian Reorganization Act of 1934, 25 U.S.C. 465. The Elk Valley Rancheria was restored to federal recognition pursuant to the Hardwick Stipulation of Judgement (No. C-79-1710SW) for Del Norte County, filed on March 2, 1987. The Stipulation restored the exterior boundaries of the Rancheria and declared all lands within the boundaries as Indian Country. The 5.10 acre parcel is located within the boundaries of the Tribe's reservation.

The real property consists of 5.10 acres situated in Del Norte County, California. The legal description of the property is as follows:

Parcels 22 and 23 in Elk Valley Rancheria Subdivision according to the map thereof filed in the office of the County Recorder of Del Norte County, California on June 17, 1960 in Book 4 of Maps, Page 102.

Except from said Parcel 23, the easterly 281.99 feet thereof.

APN: 112-071-16

FOR FURTHER INFORMATION CONTACT: George Skibine, Office of Indian Gaming Management, Bureau of Indian Affairs, MS-4543 MIB, 1849 C Street, NW., Washington, DC 20240; Telephone (202) 219-4066.

Dated: June 3, 2003.
Aurene M. Martin,
Assistant Secretary—Indian Affairs.

[FR Doc. 03-16483 Filed 6-27-03; 8:45 am]

BILLING CODE 4310-4N-M